DEPARTMENT OF LABOR

Employment and Training Administration

Agency Information Collection Activities; Comment Request; Petition for Classifying Labor Surplus Areas

ACTION: Notice.

SUMMARY: The Department of Labor's (DOL's), Employment and Training Administration (ETA) is soliciting comments concerning a proposed extension for the authority to conduct the information collection request (ICR) titled, “Petition for Classifying Labor Surplus Areas.” This comment request is part of continuing Departmental efforts to reduce paperwork and respondent burden in accordance with the Paperwork Reduction Act of 1995 (PRA).

DATES: Consideration will be given to all written comments received by February 10, 2020.

ADDRESSES: A copy of this ICR with applicable supporting documentation, including a description of the likely respondents, proposed frequency of response, and estimated total burden, may be obtained free by contacting Donald Haughton by telephone at 202-693-2784, TTY 1-877-889-5627 (this is not a toll-free number), or by email at Haughton.Donald.W@dol.gov.

Submit written comments about, or requests for a copy of, this ICR by mail or courier to the U.S. Department of Labor, Employment and Training Administration, Office of Workforce Investment, 200 Constitution Avenue NW, Room C-4510, Washington DC, 20210; by email: Haughton.Donald.W@dol.gov; or by Fax 202-693-3015.

FOR FURTHER INFORMATION CONTACT: Donald Haughton by telephone at 202-693-2784 (this is not a toll-free number) or by email at Haughton.Donald.W@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Under Executive Orders 12073 and 10582, and 20 CFR parts 651 and 654, the Secretary of Labor is required to classify Labor Surplus Areas (LSAs) and disseminate this information for the use of all Federal agencies. This information is used by Federal agencies for various purposes including procurement decisions, waiver decisions for the Supplemental Nutritional Assistance Program, certain small business loan decisions, as well as other purposes determined by the agencies. The LSA list is issued annually, effective October 1 of each year, utilizing data from the Bureau of Labor Statistics. Areas meeting the criteria are classified as LSAs.

Department regulations specify that the Department can add other areas to the annual LSA listing under the exceptional circumstance criteria. Such additions are based on information contained in petitions submitted by the state workforce agencies (SWAs) to ETA. These petitions contain specific economic information about an area to provide ample justification for adding the area to the LSA listing under the exceptional circumstances criteria. The petitions submitted by the SWAs concern various aspects of unemployment and the economic condition for a specific area in order to provide justification for adding the area to the LSA list under the exceptional circumstances criteria. Under these criteria, an area may be determined eligible for classification as a LSA if it is experiencing a high rate of unemployment which is not temporary or seasonal and which was not adequately reflected in the unemployment data for the two-year reference period. Instructions designed to assist SWAs in the preparation of such petitions are currently contained on the ETA website: http://www.doleta.gov/programs/lsa.cfm.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Classifying Labor Surplus Areas (LSA), OMB control number 1205-0207.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Petition for Classifying Labor Surplus Areas.

Form: N/A.

OMB Control Number: 1205-0207.

Affected Public: State Workforce Agencies.

Estimated Number of Respondents: 3.

Frequency: Annually.

Total Estimated Annual Responses: 3.

Estimated Average Time per Response: 3 hours.

Estimated Total Annual Burden Hours: 9 hours.

Total Estimated Annual Other Cost Burden: $0.

Authority: 44 U.S.C. 3506(c)(2)(A).

John Pallasch,
Assistant Secretary for Employment and Training.

[FR Doc. 2019-26657 Filed 12-10-19; 8:45 am]

BILLING CODE 4510-FN-P